FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than February 15, 2006.

A. Federal Reserve Bank of Kansas City (Donna J. Ward, Assistant Vice President) 925 Grand Avenue, Kansas City, Missouri 64198-0001:

1. Richard A. Jensen, WaKeeney, Kansas, as trustee of the Jonathan D. Berkley GST Trust, the Brian J. Berkley GST Trust, and the Renee A. Berkley GST Trust, all in Stockton, Kansas; to acquire voting shares of Stockton Bancshares, Inc., Stockton, Kansas, and thereby indirectly acquire voting shares of Farmers and Merchants Bank of Hill City, Hill City, Kansas, The Stockton National Bank, Stockton, Kansas, and Trego-WaKeeney State Bank, WaKeeney, Kansas.

Board of Governors of the Federal Reserve System, January 25, 2006.
Robert deV. Frierson,
Deputy Secretary of the Board.

[FR Doc. E6-1122 Filed 1-27-06; 8:45 am]

BILLING CODE 6210-01-S